DEPARTMENT OF HEALTH AND HUMAN SERVICES

National Institutes of Health

Center for Scientific Review; Amended Notice of Meeting

Notice is hereby given of a change in the meeting of the Center for Scientific Review Special Emphasis Panel, Apri1 14, 2000, 11:00 AM to April 14, 2000, 1:00 PM, Rockledge 2, Bethesda, MD 20892 which was published in the Federal Register on April 3, 2000, 65FR17518.

The meeting will be held on April 13, 2000, from 1:00 PM to 3:00 PM. The location remains the same. The meeting is closed to the public.

Dated: April 7, 2000.
Anna Snouffer,
Acting Director, Office of Federal Advisory Committee Policy.

[FR Doc. 00-9440 Filed 4-17-00; 8:45 am]

BILLING CODE 4140-01-M